DEPARTMENT OF HOMELAND SECURITY

Coast Guard

33 CFR Part 165

[Docket No. USCG-2013-0064]

RIN 1625-AA11

Regulated Navigation Area, Gulf of Mexico: Mississippi Canyon Block 20, South of New Orleans, LA; Correction

AGENCY: Coast Guard, DHS.

ACTION: Interim rule and request for comments; correction

SUMMARY: The Coast Guard published an interim rule with request for comments in the Federal Register on April 29, 2013 (78 FR 24987), establishing a regulated navigation area in the Gulf of Mexico. That document mistakenly listed incorrect coordinates for the center of that area. This document corrects those coordinates.

DATES: Effective on June 11, 2013. Comments and related material must be received by the Coast Guard on or before June 25, 2013.

FOR FURTHER INFORMATION CONTACT: Lieutenant Commander (LCDR) Brandon Sullivan, Coast Guard Sector New Orleans; telephone 504-365-2281, email Brandon.J.Sullivan@uscg.mil.

SUPPLEMENTARY INFORMATION:

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver or mail your comment, it will be considered as having been received by the Coast Guard when it is received at the Docket Management Facility. We recommend that you include your name and a mailing address, an email address, or a telephone number in the body of your document so that we can contact you if we have questions regarding your submission.

To submit your comment online, go to http://www.regulations.gov, type the docket number in the “SEARCH” box and click “SEARCH.” Click on “Submit a Comment” on the line associated with this rulemaking.

If you submit your comments by mail or hand delivery, submit them in an unbound format, no larger than 81/2 by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not plan on holding a public meeting, but you may submit a request for one prior to the comment period ending, using one of the methods specified under ADDRESSES. Please explain why you believe a public meeting would be beneficial. If we determine that one would aid in this rulemaking, we will hold one at a time and place announced by a later notice in the Federal Register.

B. Background

On September 16, 2004, a mudslide resulted from Hurricane Ivan's storm surge that toppled the Mississippi Canyon (MC) 20 Platform A. The platform's wells were covered by more than 100-feet of mud and sediment. As a result of structural damage, plumes containing crude oil and gas have been discharging into the Gulf of Mexico, creating a sheen on the surface of the water.

The responsible party for this incident has undertaken an operation to install a containment dome over the affected area, which would catch the oil rising from the sea floor. Many vessels continue to operate in the affected area. Anchoring, mooring, or loitering in the area above the containment dome could potentially damage the dome, or reduce its effectiveness.

C. Need for Correction

The Coast Guard published a document in the Federal Register on April 29, 2013, for this Regulated Navigation Area (RNA). (78 FR 24987). As noted in that document, the center of this RNA was established to surround an oil wellhead that was leaking oil after structural damage from a hurricane and mudslide. However, the latitude and longitude of that oil platform were incorrectly noted. The correct center of the regulated navigation area established by the interim rule is 28°56′12.619″ N, 088°58′10.303″ W. This correction revises the latitude and longitude for the center of this RNA to accurately reflect the location of the oil wellhead.

List of Subjects in 33 CFR Part 165

Harbors, Marine safety, Navigation (Water), Reporting and recordkeeping requirements, Security measures, Waterways.

Accordingly, 33 CFR part 165 is amended by making the following correcting amendment:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

§ 165.840 [Amended]

2. In § 165.840, amend paragraph (b) by removing the numerals and characters “28°52′17″ N 089°10′50″ W” and by adding, in their place, “28°56′12.619″ N, 088°58′10.303″ W.”

Dated: May 22, 2013.
T.A. Sokalzuk,
Captain, U.S. Coast Guard, Acting Commander, Eighth Coast Guard District.

[FR Doc. 2013-13845 Filed 6-10-13; 8:45 am]

BILLING CODE 9110-04-P